DEPARTMENT OF THE INTERIOR

National Park Service

Notice of Meeting of Concessions Management Advisory Board

AGENCY: National Park Service, Interior.

ACTION: Notice of meeting of Concessions Management Advisory Board.

SUMMARY: In accordance with the Federal Advisory Committee Act (Public Law 92-463, 86 Stat. 770, 5 U.S.C. App 1, Section 10), notice is hereby given that the Concessions Management Advisory Board will hold its next meeting October 22 and 23, 2002 in Yosemite National Park in California. The meeting will be held at the Ahwahnee Hotel in the Tudor Lounge. The Board meeting will convene at 8:30 a.m. and will adjourn at 4:30 p.m. daily.

SUPPLEMENTARY INFORMATION: The Concessions Management Advisory Board was established by Title IV, Section 409 of the National Parks Omnibus Management Act of 1998, November 13, 1998, (Pub. L. 105-391). The purpose of the Board is to advise the Secretary and the National Park Service on matters relating to management of concessions in the National Park System.

The proposed agenda for the meeting consists of the following:

Tuesday, October 22, 2002

8:30 a.m. Convene Business Meeting

(Call to Order/Introductions/Agenda Review/Approval of Minutes from February 27 Meeting)

9 a.m. Report from WASO on Board recommendations

9:30 a.m. Discussion of Proposed WASO Reorganization

10:15 a.m. Break

10:30 a.m. WASO updates

—Commercial Use Authorizations

—Handcraft Regulations

—Workshop (How to Do Business with the NPS)

—Contract Training

—Update from Concession Program Center, Denver

Noon Lunch

1:15 p.m. Report from Regions on New or Extraordinary Initiatives/Efficiencies

2:15 p.m. Comments from National Park Hospitality Association

3 p.m. Break

3:15 p.m. Update on GAO's Report on “Tax Exempt Organizations” Improvements Possible in Public, IRS, and State Oversight of Charities

4:30 p.m. Adjourn Business Meeting

Wednesday, October 23, 2002

8:30 a.m. Reconvene Meeting

8:35 a.m. Report on Core Menu Concept for Retail Pricing and Update on Pricing Program

9:15 a.m. Report on Updating of Evaluation Program Standards

10:15 a.m. Break

10:30 a.m. Non-Appropriated Fund Instrumentality

Noon Lunch

1:15 p.m. Reconvene Meeting

1:30 p.m. Discussion of Draft Handcraft Policy

2:30 p.m. Presentation on Concessions Program Center, Denver

3:15 p.m. Break

3:30 p.m. Public Comment

4 p.m. Other Business—Advisory Board

(1) Re-appointments of Board Members

(2) When and where next meeting will be held

(3) Topics to be discussed at next meeting

5 p.m. Meeting Concluded

The meeting will be open to the public, however, facilities and space for accommodating members of the public are limited, and persons will be accommodated on a first-come-first-served basis.

Assistance to Individuals With Disabilities at the Public Meeting

The Ahwahnee Hotel is designated as a National Historic Landmark and some of its meeting rooms are only accessible by stairs. Members of the public planning to attend and needing an auxiliary aid or service to participate in the meeting (e.g., interpreting service, assistive listening device, or materials in an alternate format), should notify the contact person listed in this notice at lease 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time.

Interested persons may make oral/written presentations to the Board during the business meeting or file written statements. Such requests should be made to the Director, National Park Service, attention: Manager, Concession Program, at lease 7 days prior to the meeting. Further information concerning the meeting may be obtained from National Park Service, Concession Program Division, 1849 C Street, NW, Room 7313, Washington, DC 20240, Telephone 202/565-1210.

Draft minutes of the meeting will be available for public inspection approximately 4 weeks after the meeting, in room 7313, Main Interior Building, 1849 C Street, NW., Washington, DC.

Dated: August 20, 2002.
A. Durand Jones,
Acting Director, National Park Service.

[FR Doc. 02-24045 Filed 9-20-02; 8:45 am]

BILLING CODE 4310-70-M